DEPARTMENT OF AGRICULTURE

Commodity Credit Corporation

Warehouse Rates for Peanuts Pledged as Collateral for a Marketing Assistance Loan

AGENCY: Commodity Credit Corporation, USDA.

ACTION: Notice.

SUMMARY: This notice announces to the warehouse operators operating under a Commodity Credit Corporation (CCC) Peanut Storage Agreement on the uniform rates that CCC will pay for storage, handling, and other associated costs for 2007 crop of peanuts.

DATES: Effective Date: September 25, 2007.

FOR FURTHER INFORMATION CONTACT: Mark Overbo, Deputy Director, Warehouse and Inventory Division, Farm Service Agency, USDA, STOP 0553, 1400 Independence Avenue, SW., Washington, DC 20250-0553; telephone: (202) 720-4647; email: mark.overbo@usda.gov. Persons with disabilities who require alternative means for communication (Braille, large print, audiotape, etc.) should contact the USDA Target Center at (202) 720-2600 (voice and TDD).

SUPPLEMENTARY INFORMATION: The marketing assistance loan program for peanuts is authorized by the Farm Security and Rural Investment Act of 2002 (Pub. L. 107-171) (2002 Farm Bill). Section 1307(a)(6) of the 2002 Farm Bill (7 U.S.C. 7957(a)(6)) requires CCC to pay storage, handling, and other associated costs for the 2002 through 2006 crops of peanuts that are pledged as collateral for marketing assistance loans. This authority terminates beginning with the 2007 crop of peanuts.

CCC paid storage, handling, and other associated costs for the 2002 through 2006 crop years for peanuts that were pledged as loan collateral and stored in a warehouse with an approved Peanut Storage Agreement. The statute does not authorize CCC to pay storage, handling, and other associated costs when 2007-crop peanuts are pledged as collateral for a loan. However, rates for storage and handling (in-elevation and load-out) must be established in the event that peanuts pledged as loan collateral are forfeited to CCC. For peanuts forfeited to CCC, CCC will be responsible for storage charges beginning on the day following the loan maturity date. While CCC is not responsible for storage charges incurred on or before the loan maturity date, CCC will pay to warehouse operators any amount by which the loan amount was reduced because the producer failed to pay storage or make arrangements for storage charges through the loan maturity date. Additionally, while CCC is not responsible for in-elevation charges incurred on or before the loan maturity date, CCC will pay to warehouse operators the CCC-approved in-elevation charge and collect the amount from the producer after loan forfeiture. CCC is not responsible for load out charges or other services such as inspections or grading, unless delivery is directed by CCC or such services are requested by CCC.

Section 4(h) of the CCC Charter Act (15 U.S.C. 714-714p) allows CCC to contract for the physical handling, storage, processing, servicing, and transportation of the agricultural commodities subject to its control. The terms and conditions of the CCC Peanut Storage Agreement are based on the authority provided by the CCC Charter Act.

CCC announces the following uniform rates that CCC will pay for storage, handling, and other associated costs for 2007-crop peanuts to warehouse operators with a CCC Peanut Storage Agreement:

In-Elevation

CCC will pay $8.00 per ton in-elevation charges to the receiving warehouse, only in cases where CCC directs delivery of CCC-owned peanuts from one warehouse to another location. In cases where the producer did not prepay the in-elevation charges, CCC will pay the CCC-approved in-elevation charge at a rate of $8.00 per ton to the warehouse operator and collect the amount from the producer after loan forfeiture.

Storage

Storage amounts may be earned at the rate of $.089 per ton per day beginning on the day following the loan maturity date, based on a monthly storage rate of $2.71 per ton. CCC will also use this rate to pay the storage amount by which the loan amount was reduced, when producers fail to pay storage or make arrangements for storage charges through the loan maturity date.

Load-Out

CCC will pay a load-out rate of $8.00 per ton which includes all items associated with loading out CCC-owned peanuts, such as weighing and placing peanuts aboard railcars or trucks. CCC will pay load-out charges only when this service is ordered by CCC.

Grading and Inspection

CCC will pay the amount of grading and inspection fees as determined by the Federal-State Inspection Service, Agriculture Marketing Service, for CCC-owned peanuts, only when CCC requests such service.

Other Associated Costs

CCC will negotiate rates on a case-by-case basis for other services for CCC-owned peanuts, such as cleaning, drying, or fumigation, when CCC requests such service.

Signed at Washington, DC, September 20, 2007.
Teresa C. Lasseter,
Executive Vice President, Commodity Credit Corporation.

[FR Doc. E7-18856 Filed 9-24-07; 8:45 am]

BILLING CODE 3410-05-P